DEPARTMENT OF ENERGY

Improving Performance of Federal Permitting and Review of Infrastructure Projects

AGENCY: Office of Electricity Delivery and Energy Reliability, Department of Energy.

ACTION: Extension of comment period.

SUMMARY: On August 29, 2013, the U.S. Department of Energy (DOE) published a Request for Information seeking information on a draft Integrated, Interagency Pre-Application (IIP) Process for significant onshore electric transmission projects requiring Federal authorizations. This notice announces an extension of the public comment period for submitting comments regarding the IIP Process.

DATES: The comment period for the request for information seeking information on a draft IIP Process published August 29, 2013 (78 FR 53436) is extended to October 31, 2013.

ADDRESSES: Comments should be addressed to: Julie A. Smith or Christopher Lawrence, Office of Electricity Delivery and Energy Reliability, Mail Code: OE-20, U.S. Department of Energy, 1000 Independence Avenue SW., Washington, DC 20585. Because of delays in handling conventional mail, it is recommended that documents be transmitted by electronic mail to juliea.smith@hq.doe.gov or christopher.lawrence@hq.doe.gov, or by facsimile to 202-586-7031.

FOR FURTHER INFORMATION CONTACT: Julie A. Smith at 202-586-7668, or by email to juliea.smith@hq.doe.gov; or Christopher Lawrence at 202-586-7680, or by email to christopher.lawrence@hq.doe.gov.

SUPPLEMENTARY INFORMATION: On August 29, 2013, the DOE's Office of Electricity Delivery and Energy Reliability (OE), in collaboration with the Member Agencies of the Steering Committee created under Executive Order 13604 of March 22, 2012, Improving Performance of Federal Permitting and Review of Infrastructure Projects, published a Request for Information (RFI) in the Federal Register (78 FR 53436) seeking information on a draft IIP Process for significant onshore electric transmission projects requiring Federal authorizations.

This RFI seeks public input on a draft IIP Process intended to improve interagency and intergovernmental coordination focused on ensuring that proponents of transmission projects develop and submit accurate and complete information early in the project planning process to facilitate efficient and timely environmental reviews and agency decisions.

Comments on the draft IIP Process were originally due on September 30, 2013, but several interested parties requested an extension of the 30-day comment period given the complexity of the issues, the importance of the draft IIP Process for future electric transmission projects, and the need to engage all stakeholders. As a result, OE is extending the comment period until October 31, 2013.

Issued in Washington, DC, September 20, 2013.
Patricia A. Hoffman,
Assistant Secretary, Office of Electricity Delivery and Energy Reliability.

[FR Doc. 2013-23313 Filed 9-24-13; 8:45 a.m.]

BILLING CODE 6450-01-P